DEPARTMENT OF ENERGY

[GDO Docket No. EA-339-C]

Application for Renewal of Authorization To Export Electric Energy; Shell Energy North America (US), L.P.

AGENCY: Grid Deployment Office, Department of Energy.

ACTION: Notice of application.

SUMMARY: Shell Energy North America (US), L.P. (the Applicant or Shell Energy) has applied for authorization to transmit electric energy from the United States to Canada pursuant to the Federal Power Act.

DATES: Comments, protests, or motions to intervene must be submitted on or before April 17, 2023.

ADDRESSES: Comments, protests, motions to intervene, or requests for more information should be addressed by electronic mail to Electricity.Exports@hq.doe.gov.

FOR FURTHER INFORMATION CONTACT: Steven Blazek, (240) 474-2780, electricity.exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On June 13, 2022, the authority to issue such orders was delegated to the DOE's Grid Deployment Office (GDO) under Delegation Order No. S1-DEL-S3-2022-2 and Redelegation Order No. S3-DEL-GD1-2022.

On May 5, 2008, DOE issued Order No. EA-339 authorizing Shell Energy to transmit electric energy from the United States to Canada as a power marketer. DOE subsequently renewed Shell Energy's authorization to export electric energy from the United States to Canada as a power marketer in Order No. EA-339-A (May 9, 2013), and again in Order No. EA-339-B (May 30, 2018). On December 2, 2022, Shell Energy filed an application with DOE (Application or App) for renewal of their export authority for an additional five-year term. App at 1.

In its Application, Shell Energy states that it “does not own or control any transmission or distribution facilities” and “does not have a franchised service area.” App at 2. Shell Energy seeks to renew its authority to “export electric energy acquired from U.S. generating sources to Canada over international electric transmission facilities.” App at 3. Shell Energy represents that it “will purchase the power to be exported from electric utilities, qualifying small power production facilities, cogeneration facilities and federal power marketing agencies” and that “electric energy exported pursuant to the authorization requested in this Renewal Application, whether on a firm or interruptible basis, will be purchased in bilateral, voluntary transactions from the surplus and available electric energy of the generator/seller.” App at 4. Therefore, “Shell Energy's exports to Canada will not impair the sufficiency of the electric power supply within the U.S.” Id.

The existing international transmission facilities to be utilized by the Applicant have been previously authorized by Presidential permits issued pursuant to Executive Order 10485, as amended, and are appropriate for open access transmission by third parties. See App at Exhibit C.

Procedural Matters: Any person desiring to be heard in this proceeding should file a comment or protest to the Application at the address provided above. Protests should be filed in accordance with Rule 211 of FERC's Rules of Practice and Procedure (18 CFR 385.211). Any person desiring to become a party to this proceeding should file a motion to intervene at the above address in accordance with FERC Rule 214 (18 CFR 385.214).

Comments and other filings concerning Shell Energy's Application should be clearly marked with GDO Docket No. EA-339-C. Additional copies are to be provided directly to David L. Smith, Regulatory Advisor DF—Shell Energy, 1000 Main, Suite 1200, Houston, TX 77002-6336, (713) 767-5542, dave.l.smith@shell.com and Catherine McCarthy, Partner—Bracewell LLP, 2001 M. Street NW, Suite 900, Washington, DC 20036-3310, (202) 828-5839, Catherine.mccarthy@bracewell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority: This document of the Department of Energy was signed on March 13, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 14, 2023.
Treena V. Garrett,
Federal Register Liaison Officer, U.S. Department of Energy.

[FR Doc. 2023-05469 Filed 3-16-23; 8:45 am]

BILLING CODE 6450-01-P